SMALL BUSINESS ADMINISTRATION

Export Express Pilot Program

AGENCY: U.S. Small Business Administration (SBA).

ACTION: Notice of Pilot Program extension.

SUMMARY: This notice announces the extension of SBA's Export Express Pilot Program until November 30, 2005. This extension will allow time for SBA to complete its decision making regarding potential modifications and enhancements to the Program.

DATES: The Export Express Pilot Program is extended under this notice until November 30, 2005.

FOR FURTHER INFORMATION CONTACT: Charles Thomas, Office of Financial Assistance, U.S. Small Business Administration, 409 Third Street, Washington, DC 20416; Telephone (202) 205-6490; charles.thomas@sba.gov.

SUPPLEMENTARY INFORMATION: The Export Express Pilot Program was established as a subprogram of the Agency's SBAExpress Pilot Program. It was established in 1998 to assist current and prospective small exporters, particularly those needing revolving lines of credit. Export Express generally conforms to the streamlined procedures of SBAExpress and carriers SBA's full 75-85 percent guaranty. The maximum loan amount under this Program is limited to $250,000. The extension of this Program until November 30, 2005, will allow the SBA to more fully evaluate the results and impact of the Program and to consider possible changes and enhancements to the Program. It will also allow SBA to further consult with its lending partners and the small business community about the Program.

(Authority: 13 CFR 120.3)

Michael W. Hager,
Associate Deputy Administrator.

[FR Doc. 05-19441 Filed 9-28-05; 8:45 am]

BILLING CODE 8025-01-M